DEPARTMENT OF TRANSPORTATION

Federal Highway Administration

Availability of the Draft Environmental Impact Statement

AGENCY: Federal Highway Administration (FHWA), DOT.

ACTION: Notice of availability of the Draft Environmental Impact Statement.

SUMMARY: The FHWA, on behalf of the California Department of Transportation (Caltrans), announces the availability of the Draft Environmental Impact Statement (EIS) for a proposed highway project and route adoption study in San Benito and Santa Clara Counties, California.

DATES: Public circulation of this document will begin on April 26, 2010 and will end on June 10, 2010. An open forum public hearing will be held for this project on Tuesday, May 11, 2010 between 5 p.m. and 8 p.m. in Hollister. The location is R.O. Hardin Elementary School, 881 Line Street, Hollister, CA 95023 in the Multi-purpose Room.

ADDRESSES: This document will be available at the Caltrans District 5 office, 50 Higuera Street, San Luis Obispo, CA 93401 on weekdays from 8 a.m. to 5 p.m. (except for the first, second, and third Fridays of the month, when Caltrans offices are closed). Copies of the document can also be read at the San Benito County Free Library, 470 Fifth Street, Hollister, CA 95023 and at the Santa Clara County Library, 7562 Monterey Street, Gilroy, CA 95020. The Draft EIS is also available at http://www.dot.ca.gov/dist05/paffairs/hwy25widening/.

FOR FURTHER INFORMATION CONTACT: G. William `Trais' Norris III, Sierra Pacific Environmental Analysis Branch, 2015 East Shields Avenue, Suite 100, Fresno, CA 93726. E-mail trais_norris@dot.ca.gov. Telephone (805) 542-4711.

SUPPLEMENTARY INFORMATION: Effective July 1, 2007, the Federal Highway Administration (FHWA) assigned, and (Caltrans) assumed, environmental responsibilities for this project pursuant to 23 U.S.C. 327. Caltrans as the delegated National Environmental Policy Act (NEPA) agency, has prepared a Draft Tier I Environmental Impact Statement that evaluates two proposed projects: (1) A route adoption of State Route 25 between Hollister in San Benito County and US 101 just south of Gilroy in Santa Clara County and (2) a proposed four-lane expressway construction project within the limits of the proposed route adoption in San Benito County. Caltrans approved the Draft EIS on April 13, 2010.

Alternatives 1 and 2, the route adoption alternatives, would share the same alignment from ½ mile south of Shore Road in San Benito County to US 101 in Santa Clara County. Between ½ mile south of Shore Road and the southern end of the proposed project at San Felipe Road, these alternatives separate. In this area Alternative 1 proposes to align the future four-lane expressway generally to the east of the existing highway, while Alternative 2 would be aligned mostly to the west of the existing two-lane highway.

The proposed widening project extends from San Felipe Road in Hollister to just west of Hudner Lane in San Benito County. A four-lane expressway would be built on a new alignment. Alternative A would be within the footprint of Alternative 1, and Alternative B would be within the footprint of Alternative 2. Because this project is really two projects, it would be possible for the No-Build Alternative to be selected instead of a construction project, and to also have an action: a route adoption. The No-Action Alternative would result in no action being taken.

(Catalog of Federal Domestic Assistance Program Number 20.205, Highway Planning and Construction. The regulations implementing Executive Order 12372 regarding intergovernmental consultation on Federal programs and activities apply to this program.)

Issued on: April 16, 2010.
Cindy Vigue,
Director, State Programs, Federal Highway Administration, Sacramento, California.

[FR Doc. 2010-9290 Filed 4-21-10; 8:45 am]

BILLING CODE 4910-22-P